DEPARTMENT OF STATE

[Public Notice 8688]

In the Matter of the Designation of Ansar Bayt al-Maqdis, Also Known as Ansar Jerusalem, Also Known as Supporters of Jerusalem, Also Known as Ansar Bayt al-Maqdes, Also Known as Ansar Beit al-Maqdis, Also Known as Jamaat Ansar Beit al-Maqdis, Also Known as Jamaat Ansar Beit al-Maqdis fi Sinaa, Also Known as Supporters of the Holy Place as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to as Ansar Bayt al-Maqdis, also known as Ansar Jerusalem, also known as Supporters of Jerusalem, also known as Ansar Bayt al-Maqdes, also known as Ansar Beit al-Maqdis, also known as Jamaat Ansar Beit al-Maqdis, also known as Jamaat Ansar Beit al-Maqdis fi Sinaa.

Therefore, I hereby designate the aforementioned organization and its aliases as a foreign terrorist organization pursuant to section 219 of the INA.

This determination shall be published in the Federal Register.

Dated: March 28, 2014.
John F. Kerry,
Secretary of State, Department of State.

[FR Doc. 2014-07955 Filed 4-9-14; 8:45 am]

BILLING CODE 4710-10-P